ENVIRONMENTAL PROTECTION AGENCY

[EPA-HQ-RCRA-2003-0006; FRL-8468-2]

Recovered Materials Advisory Notice V

AGENCY: Environmental Protection Agency (EPA).

ACTION: Notice of Availability of Final Document.

SUMMARY: The Environmental Protection Agency is providing notice of the availability of the final Recovered Materials Advisory Notice V (RMAN V) and supporting materials. The final RMAN V contains EPA's recommendations for purchasing one new item and one revised item designated in the final Comprehensive Procurement Guideline (CPG) V, published elsewhere in this Federal Register. This action harnesses government purchasing power to stimulate the use of recovered materials in the manufacture of products and expand markets for those recovered materials. EPA designates items that are or can be made with recovered materials and provides recommendations for the procurement of these items under the authority of the Resource Conservation and Recovery Act of 1976 (RCRA). The items for which EPA is making recommendations are: compost made from recovered organic materials and fertilizers made from recovered organic materials.

DATES: These recommendations apply to the one revised item (i.e., compost made from recovered organic materials) and one new item (i.e., fertilizers made from recovered organic materials) whose designations are effective September 15, 2008.

FOR FURTHER INFORMATION CONTACT: Marlene RedDoor, Office of Solid Waste, Municipal and Industrial Solid Waste Division (5306P), Environmental Protection Agency, 1200 Pennsylvania Avenue; 703-308-7276; fax number: 703-308-8686; e-mail address: Regelski-RedDoor.Marlene@epa.gov.

SUPPLEMENTARY INFORMATION:

I. General Information

A. Does This Action Apply to Me?

Final RMAN V provides recommendations to procuring agencies for the purchasing of items designated in the CPG V final rule. Final CPG V may affect procuring agencies under RCRA section 6002 that purchase the following items: compost made from recovered organic materials and fertilizers made from recovered organic materials, as well as services, such as landscaping or facilities maintenance that include the supply or use of compost or fertilizers. Section 6002 defines procuring agencies to include the following: (1) Any federal agency; (2) any state or local agency using appropriated federal funds for a procurement; or (3) any contractors of these agencies who are procuring these items for work they perform under the contract. See RCRA section 1004(17). The requirements of section 6002 apply to these procuring agencies only when the agencies procure designated items whose price exceeds $10,000 or when the quantity of the item purchased in the previous year exceeded $10,000. A list of entities that the final CPG V may cover is provided in Table 1.

Table 1.—Entities Potentially Subject to Section 6002 Requirements Triggered by CPG Amendments
Category | Examples of regulated entities
Federal Government | Federal departments or agencies that procure $10,000 or more of a designated item in a given year
State Government | A state agency that uses appropriated federal funds to procure $10,000 or more of a designated item in a given year
Local Government | A local agency that uses appropriated federal funds to procure $10,000 or more of a designated item in a given year
Contractor | A contractor working on a project funded by appropriated federal funds that purchases $10,000 or more of a designated item in a given year

This table is not intended to be exhaustive. To determine whether the final CPG V applies to your procurement practices, you should carefully examine the applicability criteria in 40 CFR 247.12. If you have questions about whether the final CPG V applies to a particular entity, contact Marlene RedDoor at 703-308-7276.

B. How Can I Get Copies of This Document and Other Related Information?

1. Docket. EPA has established a docket for this action under Docket ID No. EPA-HQ-RCRA-2003-0006. Information on the designated items is also available from the CPG V Docket, ID No. EPA-HQ-RCRA-2003-0005. Publicly available docket materials are available either electronically through www.regulations.gov or in hard copy at the OSWER Docket EPA/DC, EPA West, Room 3334, 1301 Constitution Ave., NW., Washington, DC. This Docket Facility is open from 8:30 a.m. to 4:30 p.m., Monday through Friday, excluding legal holidays. The telephone number for the Public Reading Room is (202) 566-1744, and the telephone number for the OSWER Docket is (202) 566-0270.

2. Electronic Access. You may access this Federal Register document electronically through the EPA Internet under the “Federal Register” listings at http://www.epa.gov/fedrgstr/.

Preamble Outline

I. What is the statutory authority for this action?

II. Why is EPA taking this action?

III. What are the definitions of terms used in this action?

IV. What did commenters say about the recommendations in the draft RMAN V?

A. Request for Comments

1. Types of Recovered Materials Identified in the Item Recommendations, and Other Recommendations, Including Specifications for Purchasing the Designated Items

2. Limitations on the Recovered Organic Materials Contained in the Fertilizers Proposed by EPA

3. Other Specifications the Agency Should Recommend That Pertain to Fertilizers Made With Recovered Organic Materials

B. Issue-Specific Comments

1. Use of Compost or Fertilizer Made From Sewage Sludge/Biosolids on or Near Food and Other Types of Crops

2. Specific Applications

3. Amount of Fertilizers Procured by Federal Agencies

4. Disclosure of Materials Used in Compost

5. Procurement Training; Sample Solicitation, Contract, or EMS Language; Reporting Procedures

V. How does the Final RMAN V differ from the Draft RMAN V?

VI. Supporting Information and Accessing Internet

I. What is the statutory authority for this action?

As explained above, EPA (“the Agency”) has promulgated an amendment to the Comprehensive Procurement Guideline (CPG) under the authority of sections 2002(a) and 6002 of the Solid Waste Disposal Act, as amended by the Resource Conservation and Recovery Act of 1976 (RCRA), as amended, 42 U.S.C. 6912(a) and 6962. This amendment is also consistent with Executive Order 13423, “Strengthening Federal Environmental, Energy, and Transportation Management,” (72 FR 3919, January 26, 2007), which revoked Executive Order 13101, “Greening the Government Through Waste Prevention, Recycling, and Federal Acquisition,” (63 FR 49643, September 14, 1998). Per section 2(d)(i) of Executive Order 13423, the head of each Federal agency shall require in the agency's acquisition of goods and services the use of, among other things, recycled content products.

II. Why is EPA taking this action?

Section 6002(e) of RCRA requires EPA to designate items that are or can be made with recovered materials and to recommend practices to help procuring agencies meet their obligations for procuring items designated under RCRA section 6002. After EPA designates an item, RCRA requires that each procuring agency, when purchasing a designated item, must purchase that item made of the highest percentage of recovered materials practicable.

Between 1983 and 1989, EPA issued five guidelines for the procurement of products containing recovered materials, which were previously codified at 40 CFR parts 248, 249, 250, 252, and 253. These products include cement and concrete containing fly ash, paper and paper products, re-refined lubricating oils, retread tires, and building insulation. Table II below summarizes designations of CPG I-IV and references the Federal Register publications.

Table II.—CPG I-IV Designations Table
Designation | Date published | Federal Register reference | Numer of items designated
CPG I | May 1, 1995 | 60 FR 21370 | 19 new, 5 previous in 8 product categories.
RMAN I | May 1, 1995 | 60 FR 21386 |
Paper Product RMAN | May 29, 1996 | 61 FR 26985 |
CPG II | November 13, 1997 | 62 FR 60962 | 12 new items.
RMAN II | November 13, 1997 | 62 FR 60975 |
Paper Product RMAN | June 8, 1998 | 63 FR 31214 |
CPG III | January 19, 2000 | 65 FR 3070 | 18 new items.
RMAN III | January 19, 2000 | 65 FR 3082 |
CPG IV | April 20, 2004 | 69 FR 24028 | 7 new, 3 revised.
RMAN IV | April 30, 2004 | 69 FR 24039 |

On December 10, 2003, EPA proposed a fourth update to the CPG, the proposed CPG V (68 FR 68813), with a companion draft RMAN V (68 FR 68919) which are finalized by this action.

In the CPG V final rule, EPA is consolidating all compost designations into one item designation: compost made from recovered organic materials. In addition, EPA is establishing a new item designation: Fertilizers made from recovered organic materials. These items are being designated under the Landscaping Products category. Recovered organic materials include, but are not limited to, yard waste, food waste, manure, and biosolids. In the final RMAN V, EPA is publishing recommendations for fertilizers made from recovered organic materials and revised recommendations for the compost designation. (For more information on CPG, go to the EPA Web site at http://www.epa.gov/cpg/.)

III. What are the definitions of terms used in this action?

In the final CPG V and in 40 CFR 247.3, EPA is revising the previous definition of compost from CPG III (65 FR 3070) and adding a definition for “fertilizer made from recovered organic materials.” ¹ EPA generally bases its definitions on industry definitions. Because there are a number of industry definitions for “compost” and “fertilizer,” EPA developed its own to prevent confusion to procuring agencies. EPA based its fertilizer definition in part on a USDA definition of “fertilizer” (see http://www.ams.usda.gov/NOP/NOP/standards/DefineReg.html).

¹ In proposed CPG V, the Agency proposed that the definition be entitled “organic fertilizer.” However, in final CPG V, EPA is entitling the definition “fertilizer made from recovered organic materials” so that the definition title and the designation description are more consistent.

Because the description of the items designated in CPG V uses the term “recovered materials,” the Agency is providing a definition for that term in this notice. The Agency previously provided this definition in CPG I, and it is also provided at 40 CFR 247.3.

Recovered materials means waste materials and byproducts which have been recovered or diverted from solid waste, but the term does not include those materials and byproducts generated from, and commonly reused within, an original manufacturing process.

IV. What did commenters say about the recommendations in the draft RMAN V?

EPA received a total of 395 comments on the proposed CPG V and the draft RMAN V. In this section, EPA discusses the major comments relevant to the recommendations in the draft RMAN V. Because of their relevancy to both the final CPG V and the final RMAN V, certain topics below refer to responses found in the preamble to the final CPG V, which is published elsewhere in this Federal Register. You can find a more thorough summary of comments and EPA's responses in the “Background Document for the Final Comprehensive Guideline (CPG) V and Final Recovered Materials Advisory Notice (RMAN) V.”

A. Request for Comments

This section summarizes and responds to the comments received in response to the Agency's specific requests for comments in the draft RMAN V.

1. Types of Recovered Materials Identified in the Item Recommendations, and Other Recommendations, Including Specifications for Purchasing the Designated Items

Comments: EPA received a number of comments on the types of recovered materials identified in the item designations, and other recommendations. EPA did not receive any comments that address specifications for purchasing the items designated in this action. Several comments supported allowing biosolids and/or manure to be used for compost and/or fertilizer. Some of these comments stated that the inclusion of biosolids in the compost and fertilizer designations will increase market demand for these recovered material products, and will also provide further support for the long-standing practice of biosolids land application.

However, a number of commenters opposed revising the compost designation to include sewage sludge or generally opposed using biosolids, manure, and/or sewage sludge in compost or fertilizer. A few other commenters suggested that EPA add certain materials to the scope of “recovered organic materials” in the compost and fertilizer item designations and RMAN recommendations. A few commenters suggested that Exceptional Quality (EQ) biosolids products be included in what the commenters termed the “approved product list,” along with soil blends of EQ biosolids and other materials such as sawdust, sand, and yard trimmings. Another commenter suggested that EPA “include `cotton gin by-products' and cottonseed products as recovered plant organic materials that can be composted to produce `organic fertilizer.' ”

Several other commenters made recommendations. One commenter suggested that an extra safety measure would be to only permit the use of the sewage-derived products on trees and non-vegetable crops. Yet another commenter encouraged EPA to retain the 247.15(b) designation of compost language “for use in landscaping, seeding of grass or other plants on roadsides and embankments * * *” and add “and other uses” at the end of the sentence. This commenter also suggested that, because of concerns regarding pathogens, biosolids and manure must be processed and handled in accordance with the kinds of strict protocols put forth in 40 CFR Part 503, and that this should be further emphasized. One commenter said EPA should consider “amending the definition of `compost' to include, for biosolids composts, that the composting process must meet the time-temperature relationships in 40 CFR part 503, and for non-biosolids composts, that the compost must have been manufactured in accordance with applicable state regulations.”

Response: EPA agrees that the changes to include compost or fertilizer with biosolids or manure content as designated landscaping products will achieve an important goal of the CPG program—to increase market demand for items made from recovered materials. For responses to comments opposing the use of biosolids and/or manure in compost or fertilizer, please refer to sections VI.B.4, 5, and 7 in the preamble to the final CPG V, which is published elsewhere in this Federal Register.

EQ biosolids, cotton gin by-products, sawdust, and yard trimmings are already included in the scope of the fertilizer and amended compost designations and recommendations because these are recovered organic materials.

EPA rejected the suggestion that it recommend limiting the use of sewage-derived landscaping to trees and non-vegetable crops for the reasons explained in sections VI.B.4 and 6 in the preamble to the final CPG V, published elsewhere in this Federal Register.

EPA decided not to retain certain descriptive language in the 247.15(b) compost designation (“for use in landscaping, seeding of grass or other plants on roadsides and embankments * * *”). Similarly, EPA did not add the phrase “and other uses” at the end of the designation. (See section VI.B.6., in the preamble to the final CPG V, published elsewhere in this Federal Register, for the reasons that EPA did not retain this language.) However, EPA has retained this language (but did not add “other uses”) in the Preference Program section of the final RMAN V for compost. To emphasize the processing and handling protocols in Part 503, EPA references Part 503 in the final RMAN V for both compost and fertilizers.

Finally, EPA did not revise the definition in the CPG V final rule to include more specific language about state regulations or the time-temperature relationships in 40 CFR part 503. However, in the Specifications section of the final RMAN V for compost, the Agency references 40 CFR part 503 and recommends that procuring agencies check for applicable federal, state, and local government regulations on the use of compost. For more on the time-temperature requirements in Part 503, see pp. 28, 38, et al, of the EPA document entitled Environmental Regulations and Technology: Control of Pathogens and Vector Attraction in Sewage Sludge. This document can be found at http://www.epa.gov/ORD/NRMRL/Pubs/1992/625R92013.pdf.

2. Limitations on the recovered organic materials contained in the fertilizers proposed by EPA

Comments: One commenter agrees with the minimum recovered organic material content for fertilizers recommended by USDA, which is 80%. The commenter added that the 80% minimum would allow them to work in conjunction with commercial fertilizers to meet the specific needs of the government nutrient specifications.

Response: In the Draft RMAN V Federal Register notice, EPA explained that the items being proposed are generally made exclusively of recovered materials. In addition, in the background document for proposed CPG V, EPA stated that most fertilizers made with recovered organic materials contain up to 100 percent recovered materials. This being the case, EPA does not believe it is necessary or appropriate to recommend a minimum level or any particular recovered materials content range for fertilizers made from recovered organic materials.

For other comments and responses regarding limitations on the recovered organic materials contained in the fertilizers proposed by EPA, please refer to section V.A.4 in the preamble to the final CPG V, which is published elsewhere in this Federal Register.

3. Other specifications the Agency should recommend that pertain to fertilizers made with recovered organic materials

The Agency did not receive any comments on other specifications pertaining to fertilizers.

B. Issue-Specific Comments

1. Use of compost or fertilizer made from sewage sludge/biosolids on or near food and other types of crops

The use of biosolids compost and fertilizers on or near food crops was addressed by several commenters and relates to EPA's recommendations in RMAN V. For a summary of comments and responses on this issue, please refer to section VI.B.4 in the preamble to the final CPG V, which is published elsewhere in this Federal Register.

2. Specific applications

Appropriate applications for compost and fertilizers made from recovered organic materials were addressed by several commenters and relate to EPA's recommendations in RMAN V. For a summary of comments and responses on this issue, please refer to section VI.B.6 in the preamble to the final CPG V, which is published elsewhere in this Federal Register.

3. Amount of fertilizers procured by federal agencies

Comments: EPA received a few comments suggesting that EPA gather data on the amount of fertilizers used by each federal agency. One commenter suggested that EPA gather information on the amount of compost procured by the government, the size of the market for various compost products made from recovered materials, and the sources and the supply of compost products. Another commenter suggested such a base line could be used to monitor the amount of biobased materials that are recycled as a result of the CPG V regulation.

Response: The Agency agrees that baseline data would be useful. Current Federal procurement data systems, however, provide no or limited information on the quantity of individual items purchased by Federal agencies. Many of the EPA-designated items are purchased with government credit cards or are supplied or used in the performance of support services at Federal facilities. Although agencies are required to report annually to the Office of Federal Procurement Policy and the Office of the Federal Environmental Executive (OFEE) about their implementation of RCRA section 6002, agencies do not report and are not required to report data on each EPA-designated item because the data systems do not capture this information. Instead, agencies report on the number of contracting actions in which EPA-designated items will be supplied or used, qualitative information on eight indicator items, and qualitative information of program implementation. The eight indicator items do not include compost because of the difficulty in obtaining quantitative information about purchases of this item. EPA hopes to be able to work with the agencies to develop data on services contracts that include the supply or use of compost and fertilizer.

4. Disclosure of materials used in compost

Comments: EPA received a few comments suggesting that the agency should require disclosure by compost producers of all materials used in the manufacture of any compost sold to the federal government.

Response: EPA has no authority under RCRA 6002 to establish such a requirement. However, in the case of government procurement, individual procuring agencies, if authorized, may specify that the compost they purchase includes such a disclosure. Private parties may include such a disclosure as a necessary component of their solicitation. In the final RMAN V, EPA recommends that procuring agencies refer to the United States Composting Council's (USCC's) Test Methods for the Examination of Composting and Compost (TMECC), which are standardized methods for the composting industry to test and evaluate compost and verify the physical, chemical, and biological characteristics of composting source materials and compost products. The TMECC also includes material testing guidelines to ensure product safety and market claims. Additionally, EPA is also recommending that procuring agencies refer to the USCC's Seal of Testing Assurance (STA) labeling program, which is a compost testing and information disclosure program that uses the TMECC. Participating compost producers regularly sample and test their products using STA Program approved labs, all of which must use the same standardized testing methodologies. Participants must make test results available to customers and certify that they are in compliance with all applicable local, state, and federal regulations with respect to their compost products. The USCC then certifies the participants' compost as “STA certified compost” and allows the use of the STA logo on the product packaging and literature. Procuring agencies may wish to consider specifying STA certified compost, especially for applications that require consistent quality. The USCC has developed sample specification and contract language, available at http://www.compostingcouncil.org/pdf/Specifying_STA_Prog.pdf. More information on TMECC and STA can be found at www.compostingcouncil.org.

5. Procurement Training; Sample Solicitation, Contract, or EMS Language; Reporting Procedures

Comments: EPA received a few comments that requested one or more of the following: procurement training, sample solicitation and contract language, technical guidance, annual review and reporting procedures, and EMS provisions. Specifically, a few commenters suggested that EPA establish training programs for procuring agencies, one focusing on the objectives of E.O. 13101 and the other focusing on the CPG program specifically. Another commenter explained that his agency typically purchases compost and organic fertilizers as part of support services or performance type contracts, not as a product. The commenter asked that EPA provide sample solicitation or contract language that can be inserted into these contracts, and make it available online. This commenter also suggested that, prior to designating future CPG products, EPA establish training programs, solicitation and contract language, technical guidance, annual review and reporting procedures, and sample environmental management system provisions. Another commenter made similar requests and recommended that EPA add the web URL for information referenced in the RMAN, such as the U.S. Department of Transportation's specifications and EPA's sewage sludge regulations.

Response: OFEE has workgroups consisting of federal procuring agencies which focus on a number of issues, such as record keeping, reporting, and EMS. The purpose of these workgroups is to share information and develop consensus programs. EPA will continue to work on these issues through its participation in the OFEE workgroups, where agencies can share model language solicitation and contract language. When the example model language for a solicitation or contract is available, EPA will post it on the CPG web pages or link to locations that give examples. Training tools and other green purchasing guidance are available on the OFEE Web site at http://www.ofee.gov. Guidance specific to Part 503 and biosolids issues is available at: http://www.epa.gov/owm/mtb/biosolids/. Finally, regarding the suggestion to include web URLs for information referenced in the RMAN, EPA included them for all specifications in the final RMAN V.

Further information for specifications may be found in the Federal Green Construction Guide for Specifiers, including information on compost and is available on the Whole Building Design Guide Web site, at http://www.wbdg.org/design/greenspec_msl.php?s=329000.

V. How does the Final RMAN V differ from the Draft RMAN V?

EPA made several changes to the draft RMAN V in the final RMAN V. First, in the Specifications section of the draft RMAN for compost and fertilizers, EPA referred to “individual state regulations” on the use of compost and fertilizers made with recovered organic materials, respectively. In the final RMAN V, EPA has expanded the reference to include other applicable federal and local government regulations as well.

Second, in the Specifications section of the RMAN for compost and fertilizers, EPA revised the description of the Part 503 requirements in order to provide clarification. For example, in the draft RMAN, EPA referred to 40 CFR part 503 as the “Biosolids Rule.” However, the actual title of Part 503 is “The Standards for the Use or Disposal of Sewage Sludge,” and not the “Biosolids Rule.” In order to avoid confusion, the term “Biosolids Rule” has been removed from the final RMAN V for compost and fertilizers.

Third, in the final RMAN for compost and fertilizers, EPA added a reference to USDA's National Organic Program (NOP) regulations, which prohibit the use of biosolids in organic production. EPA received many comments that cited the NOP regulations, and EPA cites the NOP regulations in the final RMAN in response to those comments. Likewise, in the final RMAN for compost, EPA added a reference to the Organic Materials Review Institute (OMRI) guidelines and lists of materials allowed and prohibited in organic production.

As mentioned in IV.B.5 above, in response to a public comment suggesting that EPA include web URLs for information referenced in the RMAN, EPA included them for all specifications in the final RMAN V.

Also, as mentioned in section IV.B.4 above, in the final RMAN for compost, EPA added a reference to the USCC's STA program. This reference was added in response to comments concerning the issue of disclosure by compost producers of all materials used in the manufacture of compost. In addition, in the final RMAN for compost, EPA clarified the citation for the U.S. Department of Transportation's specifications. In the final RMAN for compost, EPA also revised the “Note” in order to provide clarification.

Finally, the draft RMAN V for fertilizers was entitled “Section F-6. Organic Fertilizers.” However, in the proposed CPG V, the proposed designation was phrased “fertilizers made from recovered organic materials.” EPA is revising the final RMAN title to read “Section F-6. Fertilizers Made From Recovered Organic Materials.” EPA is making this change so that the RMAN title matches the wording of the fertilizer item designation finalized by this action in 40 CFR Part 247.

VI. Supporting Information and Accessing Internet

Supporting materials for this final CPG V and RMAN V are available in the OSWER Docket and on the Internet. The address and telephone number of the OSWER Docket are provided in the SUPPLEMENTARY INFORMATION section above. To access information on the Internet, go to the EPA Dockets Web site at www.regulations.gov. Supporting materials can be accessed on the Internet at www.regulations.gov. Among the supporting materials available in the OSWER Docket and on the Internet are the following:

“Background Document for the Final Comprehensive Guideline (CPG) V and Final Recovered Materials Advisory Notice (RMAN) V,” U.S. Environmental Protection Agency, Office of Solid Waste, August, 2007.

“Economic Impact Analysis for Final Comprehensive Procurement Guideline V,” U.S. Environmental Protection Agency, Office of Solid Waste, July 2007.

Dated: September 6, 2007.
Stephen L. Johnson,
Administrator.

Recovered Materials Advisory Notice V

The following represents EPA's recommendations to procuring agencies for purchasing the items designated in the Comprehensive Procurement Guideline (CPG) V in compliance with section 6002 of the Resource Conservation and Recovery Act (RCRA) and E.O. 13423. These recommendations are intended to be used in conjunction with the RMANs issued on May 1, 1995 (60 FR 21386), November 13, 1997 (62 FR 60975), January 19, 2000 (65 FR 3082), April 30, 2004 (69 FR 24039), and the Paper Products RMANs issued on May 29, 1996 (61 FR 26985) and June 8, 1998 (63 FR 31214). Refer to May 1, 1995, November 13, 1997, January 19, 2000, and April 30, 2004 RMANs for definitions, general recommendations for affirmative procurement programs, and recommendations for previously designated items. In the case of compost, the recommendations published revise the previous recommendations issued in RMAN III. The RMANs are available on EPA's CPG Web site at http://www.epa.gov/cpg.

Contents

I. General Recommendations

II. Specific Recommendations for Procurement of Designated Items

Part F. Landscaping Products

Section F-2. (Revised) Compost Made from Recovered Organic Materials.

Section F-6. Fertilizers Made from Recovered Organic Materials.

I. General Recommendations

General recommendations for definitions, specifications, and affirmative procurement programs may be found in the May 1, 1995 RMAN (60 FR 21386). Procuring agencies should avoid specifications that may result in unintentional barriers to purchasing designated items, such as packaging, color, or cosmetic requirements that have no bearing on the item's functionality or performance, but that might prevent its purchase with the highest percentage of recovered materials practicable.

II. Specific Recommendations for Procurement of Designated Items

Recommendations for purchasing previously designated items may be found in RMAN I (May 1, 1995); RMAN II (November 13, 1997); RMAN III (January 19, 2000); RMAN IV (April 30, 2004); and the Paper Products RMANs (May 29, 1996, and June 8, 1998). Revised recommendations for compost are included in this notice.

Part F—Landscaping Products

Section F-2. (Revised) Compost Made From Recovered Organic Materials

Note: EPA previously designated yard trimmings compost in CPG I and food waste compost in CPG III. CPG V revises the designation by amending the definition of “compost” and changing the description of the designation to “compost made from recovered organic materials.” These materials can include yard trimmings, food waste, manure, biosolids, or other recovered organic materials that can be composted. The effect of those changes is to add compost made from manure or biosolids or both to the compost designation. The following are EPA's revised recommendations for purchasing compost. EPA's final recommendations for purchasing composts made from recovered organic materials should be substituted for the recommendations found in Section F-2 of RMAN III.

Preference Program: EPA recommends that procuring agencies purchase or use mature compost made from recovered organic materials in such applications as landscaping, seeding of grass or other plants on roadsides and embankments, as nutritious mulch under trees and shrubs, and in erosion control and soil reclamation. Mature compost is defined as a thermophilic converted product with high humus content, which can be used as a soil amendment and can also be used to prevent or remediate pollutants in soil, air, and storm water run-off.

EPA further recommends that those procuring agencies that have an adequate volume of organic materials, as well as sufficient space for composting, should implement a composting system to produce compost from these materials to meet their landscaping and other needs.

Specifications: EPA recommends that procuring agencies refer to the following specifications when purchasing compost made from recovered organic materials. The U.S. Composting Council's (USCC's) Test Methods for the Examination of Composting and Compost (TMECC) and Seal of Testing Assurance (STA) program, which are found at http://www.compostingcouncil.org. The TMECC are standardized methods for the composting industry to test and evaluate compost and verify the physical, chemical, and biological characteristics of composting source materials and compost products. The TMECC also includes material testing guidelines to ensure product safety and market claims. The STA program is a compost testing and information disclosure program that uses the TMECC. Participating compost producers regularly sample and test their products using STA Program approved labs, all of which must use the same standardized testing methodologies. Participants must make test results available to customers and certify that they are in compliance with all applicable local, state, and federal regulations with respect to their compost products. The USCC then certifies the participants' compost as “STA certified compost” and allows the use of the STA logo on product packaging and literature. Procuring agencies can consider specifying STA certified compost, especially for applications that require consistent quality.

Section 713.05(f) of the U.S. Department of Transportation's 1996 “Standard Specifications for Construction of Roads and Bridges on Federal Highway Projects FP-96” specifies compost as one of the materials suitable for use in roadside revegetation projects associated with road construction. (See p. 719 in http://www.efl.fhwa.dot.gov/design/manual/Fp96.pdf.)

EPA's “Standards for the Use or Disposal of Sewage Sludge,” at 40 CFR part 503, limit the pollutants and pathogens in biosolids. If biosolids are included as part of the compost, the processing and product are subject to Part 503. (http://www.epa.gov/owm/mtb/biosolids/) Procuring agencies should also look at other applicable federal, state, and local government regulations on the use of compost made from recovered organic materials.

The U.S. Department of Agriculture (USDA) National Organic Program (NOP) regulations established national standards for organically produced agricultural products to assure consumers that agricultural products marketed as organic meet consistent, uniform standards. The NOP regulations require that agricultural products labeled as organic originate from farms or handling operations certified by a State or private entity that has been accredited by USDA. Among other things, the regulations prohibit the use of sewage sludge (biosolids) in organic production. (http://www.ams.usda.gov/nop/NOP/NOPhome.html)

Example language for solicitations and contracts can be found in the Federal Green Construction Guide for Specifiers, which is available on the Whole Building Design Guide Web site, at http://www.wbdg.org/design/greenspec_msl.php?s=329000.

The Organic Materials Review Institute (OMRI), at http://www.omri.org, has developed guidelines and lists of materials allowed and prohibited for use in the production, processing, and handling of organically grown products.

Finally, EPA recommends that procuring agencies ensure that there is no language in their specifications relating to landscaping, soil amendments, erosion control, or soil reclamation that would preclude or discourage the use of compost made from recovered organic materials.

Section F-6. Fertilizers Made From Recovered Organic Materials

Note: Although fertilizer has some qualities similar to compost, for the purposes of the CPG, compost is a separate designation.

Preference Program: EPA recommends that procuring agencies purchase or use fertilizer made from recovered organic materials in such applications as agriculture and crop production, landscaping, horticulture, parks and other recreational facilities, on school campuses, and for golf course and turf maintenance.

Specifications: EPA recommends that procuring agencies refer to the following specifications when purchasing fertilizers made from recovered organic materials. Biosolids can be used in the production of fertilizers made from recovered organic materials and must meet the requirements specified in 40 CFR part 503 before they may be beneficially used. The Part 503 land application requirements ensure that any biosolids that are land applied contain pathogens and metals that are below specified levels and are protective of public health and the environment. (http://www.epa.gov/owm/mtb/biosolids/) Procuring agencies should also check for other applicable federal, state, and local government regulations on the use of fertilizers made from recovered organic materials.

The U.S. Department of Agriculture (USDA) National Organic Program (NOP) regulations established national standards for organically produced agricultural products to assure consumers that agricultural products marketed as organic meet consistent, uniform standards. The NOP regulations require that agricultural products labeled as organic originate from farms or handling operations certified by a State or private entity that has been accredited by USDA. Among other things, the regulations prohibit the use of sewage sludge (biosolids) in organic production. (http://www.ams.usda.gov/nop/NOP/NOPhome.html)

The Organic Materials Review Institute (OMRI), at http://www.omri.org, has developed guidelines and lists of materials allowed and prohibited for use in the production, processing, and handling of organically grown products.

Finally, EPA recommends that procuring agencies ensure that there is no language in their specifications relating to such applications as agriculture and crop production, landscaping, horticulture, parks and other recreational facilities, on school campuses, and for golf course and turf maintenance that would preclude or discourage the use of fertilizers made from recovered organic materials.

[FR Doc. E7-18149 Filed 9-13-07; 8:45 am]

BILLING CODE 6560-50-P